FEDERAL MARITIME COMMISSION

Ocean Transportation Intermediary License; Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 019778N.

Name: FT Worldwide, LLC.

Address: 2979 Rushland Road, Jamison, PA 18929.

Date Revoked: January 23, 2012.

Reason: Voluntarily surrendered license.

License Number: 021513N.

Name : Camden Shipping Corporation.

Address: 56 Georgetown Road, Bordentown, NJ 08505.

Date Revoked: February 29, 2012.

Reason: Voluntarily surrendered license.

License Number: 022991N.

Name: Whale Logistics, LLC.

Address: 84-43 Penelope Avenue, New York, NY 11379.

Date Revoked: February 20, 2012.

Reason: Voluntarily surrendered license.

Vern W. Hill,
Director, Bureau of Certification and Licensing.

[FR Doc. 2012-7459 Filed 3-27-12; 8:45 am]

BILLING CODE 6730-01-P